DEPARTMENT OF LABOR

Agency Information Collection Activities; Submission for OMB Review; Comment Request; The Study of the Great Recession and the Unemployment Insurance (UI) System in the 21st Century, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that required data can be provided in the desired format, reporting burden (time and financial resources) is minimized, collection instruments are clearly understood, and the impact of collection requirements on respondents can be properly assessed. Currently, DOL is soliciting comments concerning the collection of information for the Study of the Great Recession and the Unemployment Insurance (UI) System in the 21st Century. A copy of the proposed Information Collection Request (ICR) can be obtained by contacting the office listed below in the addressee section of this notice.

DATES: Written comments must be submitted to the office listed in the addressee section below on or before February 26, 2019.

ADDRESSES: You may submit comments by either one of the following methods: Email: ChiefEvaluationOffice@dol.gov; Mail or Courier: Jennifer Daley, Chief Evaluation Office, OASP, U.S. Department of Labor, Room S-2312, 200 Constitution Avenue NW, Washington, DC 20210. Instructions: Please submit one copy of your comments by only one method. All submissions received must include the agency name and OMB Control Number identified for this information collection. Comments, including any personal information provided, become a matter of public record. They will also be summarized and/or included in the request for OMB approval of the information collection request.

FOR FURTHER INFORMATION CONTACT: Jennifer Daley by email at ChiefEvaluationOffice@dol.gov or by phone at (202) 693-5913.

SUPPLEMENTARY INFORMATION: I. Background: The Chief Evaluation Office (CEO) is sponsoring a study on lessons learned regarding the Unemployment Insurance (UI) system in response to the Great Recession that began in 2007, the economic recovery that followed the Great Recession, and issues relevant to future UI policy and future economic downturns.

The main goal of the study is to identify, analyze, and report on the problems that state UI programs faced during the Great Recession and how they responded to those challenges, and lessons learned. The study will focus on the challenges and adjustments states made with respect to staffing, data, administrative processes and procedures, trigger mechanisms, and trust funds. It will also highlight structural issues that predate the Great Recession and lessons learned from the recession so that state UI programs are better prepared for future recessions and a changing labor market.

This Federal Register Notice provides the opportunity to comment on the proposed data collection instruments that will be used in the study: a survey of UI directors in all 50 states and the District of Columbia, and semi-structured interviews.

1. Online survey. The online survey of state UI directors will collect information on challenges faced by the states during the Great Recession, as well as the current state of administrative, financial, and programmatic features (if not available in other sources of reported data) that have been identified in previous research as presenting challenges to states during the previous recession.

2. Semi-structured interviews. The State UI staff, including UI directors, financial staff, Chief of Benefits staff, appeals staff, benefits determination staff, Human Resources (HR) staff, and Information Technology (IT) staff, in approximately 6 states will be interviewed during site visits. The semi-structured interviews will gather detailed information on challenges and lessons learned from a range of perspectives and will include respondents who were and were not working in UI agencies at the time of the Great Recession.

II. Desired Focus of Comments: Currently, DOL is soliciting comments concerning the above data collection for the Study of the Great Recession and the Unemployment Insurance (UI) System in the 21st Century. DOL is particularly interested in comments that do the following:

○ Evaluate whether the proposed collection of information is necessary for the proper performance of the functions of the agency related to UI program oversight, including whether the information will have practical utility;

○ Evaluate the accuracy of the agency's estimate of the ICR burden to survey and interview respondents, including the validity of the study approach and assumptions;

○ Enhance the quality, utility, and clarity of the information to be collected; and

○ Minimize the burden of the information collection on respondents, including the use of appropriate automated, electronic, mechanical, or other technological collection techniques or other forms of information technology (e.g., permitting electronic submission of responses).

III. Current Actions: At this time, DOL is requesting clearance for the survey instrument and semi-structured interview protocols.

Type of review: New information collection request.

OMB Control Number: 1290-0NEW.

Affected Public: Individuals working in state UI agencies.

Comments submitted in response to this request will be summarized and/or included in the request for Office of Management and Budget (OMB) approval; they will also become a matter of public record.

Estimated Annual Burden Hours
Information collection instrument | Number of respondents | Number of responses per respondent | Total number of responses | Average burden per response (hours) | Estimated burden (hours)
Survey— State UI Director | 17 | 1 | 17 | 0.75 | 13
Interview Protocol—UI Directors | 6 | 1 | 6 | 1 | 6
Interview Protocol—Financial Staff | 6 | 1 | 6 | 1 | 6
Interview Protocol—Chief of Benefits | 6 | 1 | 6 | 1 | 6
Interview Protocol—Appeals Staff | 6 | 1 | 6 | 1 | 6
Interview Protocol—Benefits Determination Staff | 6 | 1 | 6 | 1 | 6
Interview Protocol—HR Staff | 6 | 1 | 6 | 1 | 6
Interview Protocol—IT Staff | 6 | 1 | 6 | 1 | 6
Total | 59 |  | 59 |  | 55

Molly Irwin,
Chief Evaluation Officer, U.S. Department of Labor.

[FR Doc. 2018-28310 Filed 12-27-18; 8:45 am]

BILLING CODE 4510-HX-P